DEPARTMENT OF ENERGY

Federal Energy Regulatory Commission

[Docket No. RP05-85-000]

North Baja Pipeline, LLC; Notice of Limited Case-Specific Waiver

November 30, 2004.

Take notice that on November 19, 2004, North Baja Pipeline, LLC, (NBP) and MGI Supply Ltd., (MGI) tendered for filing a joint petition for a limited case specific waiver and a request for expedited consideration of the competitive bidding procedures of NBP's capacity release tariff in order to allow an assignment of MGI's firm capacity rights following the outcome of a Request For Proposal (RFP) procedure to be conducted by the Mexican Comision Federal de Electricidad (CFE).

In particular, NBP and MGI are requesting an expedited grant of a limited case-specific waiver of the competitive bidding requirement contained in section 284.8 of the Commission's regulations. NBP and MGI request that the waiver be granted in advance of an RFP procedure to be conducted by the CFE, in order to allow MGI to assign all or a portion of its long-term firm negotiated rate capacity to suppliers who successfully bid to supply LNG to certain CFE generation plants.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the date as indicated below. Anyone filing an intervention or protest must serve a copy of that document on the Applicant. Anyone filing an intervention or protest on or before the intervention or protest date need not serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. eastern time on December 7, 2004.

Magalie R. Salas,
Secretary.

[FR Doc. E4-3490 Filed 12-6-04; 8:45 am]

BILLING CODE 6717-01-P